DEPARTMENT OF TRANSPORTATION

Federal Aviation Administration

14 CFR Part 39

[Docket No. FAA-2008-0018; Directorate Identifier 2007-NM-145-AD]

RIN 2120-AA64

Airworthiness Directives; Airbus Model A310 Series Airplanes and A300-600 Series Airplanes

AGENCY: Federal Aviation Administration (FAA), Department of Transportation (DOT).

ACTION: Notice of proposed rulemaking (NPRM).

SUMMARY: The FAA proposes to supersede two existing airworthiness directives (ADs). One existing AD applies to certain Airbus Model A310 series airplanes and requires repetitive inspections for cracking of the flap transmission shafts, and replacing the transmission shafts if necessary. That existing AD also provides an optional terminating action for the repetitive inspections. The other existing AD applies to all Airbus Model A310 and A300-600 series airplanes and requires a one-time inspection of the trimmable horizontal stabilizer actuator (THSA), corrective actions if necessary, and follow-on repetitive tasks. This proposed AD would require revising the Airworthiness Limitations Section of the Instructions for Continued Airworthiness to incorporate new limitations and maintenance tasks for aging systems maintenance. This proposed AD results from the manufacturer's determination that life limitations and maintenance tasks are necessary in order to ensure continued operational safety of the affected airplanes. We are proposing this AD to prevent reduced structural integrity of these airplanes due to the failure of system components.

DATES: We must receive comments on this proposed AD by February 13, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Comments Invited

We invite you to send any written relevant data, views, or arguments about this proposed AD. Send your comments to an address listed under the ADDRESSES section. Include “Docket No. FAA-2008-0018; Directorate Identifier 2007-NM-145-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On May 8, 2006, we issued AD 2006-10-11, amendment 39-14595 (71 FR 28254, May 16, 2006), for certain Airbus Model A310 series airplanes. That AD requires repetitive inspections for cracking of the flap transmission shafts, and replacing the transmission shafts if necessary. That AD also provides an optional terminating action for the repetitive inspections. That AD resulted from reports of longitudinal cracks due to stress corrosion in the transmission shafts between the power control unit (PCU) and the torque limiters of the flap transmission system. We issued that AD to detect and correct cracking of the flap transmission shaft, which could compromise shaft structural integrity and lead to a disabled flap transmission shaft and reduced controllability of the airplane.

On July 14, 2006, we issued AD 2006-15-10, amendment 39-14690 (71 FR 42021, July 25, 2006), for all Airbus Model A310 and A300-600 series airplanes and requires a one-time inspection of the trimmable horizontal stabilizer actuator (THSA), corrective actions if necessary, and follow-on repetitive tasks. That AD resulted from reports of THSAs that have reached their design operational life. We issued that AD to extend the operational life of the THSA to prevent a possible failure of high-time THSAs, which could result in reduced controllability of the airplane.

Actions Since Existing ADs Were Issued

Since we issued ADs 2006-10-11 and 2006-15-10, the European Aviation Safety Agency (EASA), which is the Technical Agent for the Member States of the European Community, notified us that an unsafe condition may exist on all Airbus Model A310 and A300-600 series airplanes. The EASA advises that Airbus has issued aging system maintenance limitations and maintenance tasks to address airplane systems that operate beyond their original limits, which could result in increased potential for failure of these systems and consequent reduced structural integrity of these airplanes.

Relevant Service Information

Airbus has issued A300-600 ALS—Airworthiness Limitations Section, and A310 ALS—Airworthiness Limitations Section, both dated May 31, 2006, which are a repository for stand-alone documents that are approved independently from each other. The Airbus ALSs comprises the following documents:

• ALS Part 1—Safe Life Airworthiness Limitation Items

• ALS Part 2—Damage-Tolerant Airworthiness Limitation Items

• ALS Part 3—Certification Maintenance Requirements

• ALS Part 4—Aging Systems Maintenance

• ALS Part 5—Fuel Airworthiness Limitations

Airbus A310 ALS Part 4—Aging Systems Maintenance, Revision 01, dated December 21, 2006, and A300-600 ALS Part 4—Aging Systems Maintenance, Revision 01, dated December 21, 2006, describe aging system maintenance limitations and maintenance tasks.

Accomplishing the actions specified in the service information is intended to adequately address the unsafe condition. The EASA mandated the service information and issued airworthiness directive 2007-0092, dated April 10, 2007, to ensure the continued airworthiness of these airplanes in the European Union.

FAA's Determination and Requirements of the Proposed AD

These airplanes are manufactured in France and are type certificated for operation in the United States under the provisions of section 21.29 of the Federal Aviation Regulations (14 CFR 21.29) and the applicable bilateral airworthiness agreement. Pursuant to this bilateral airworthiness agreement, EASA has kept the FAA informed of the situation described above. We have examined the EASA's findings, evaluated all pertinent information, and determined that AD action is necessary for airplanes of this type design that are certificated for operation in the United States.

This proposed AD would supersede ADs 2006-10-11 and 2006-15-10 and would retain the requirements of the existing ADs. This proposed AD would also require revising the Airworthiness Limitations Section (ALS) of the Instructions for Continued Airworthiness to incorporate new limitations and maintenance tasks for aging systems maintenance. Doing an inspection in accordance with the ALS revision would terminate the requirements of the existing ADs.

Explanation of Change to Applicability

We have revised the applicability of the existing ADs to identify model designations as published in the most recent type certificate data sheet for the affected models.

Costs of Compliance

The following table provides the estimated costs for U.S. operators to comply with this proposed AD.

Estimated Costs
Action | Work hours | Average labor rate per hour | Cost per airplane | Number of U.S.-registered airplanes | Fleet cost
Inspection (required by AD 2006-10-11) | 1 | $80 | $80, per inspection cycle | 59 | $4,720, per inspection cycle.
Inspection (required by AD 2006-15-10) | 3 | 80 | 240 | 213 | 51,120.
Repetitive follow-on tasks (required by AD 2006-15-10) | 12 | 80 | 960, per inspection cycle | 213 | 204,480, per inspection cycle.
ALS Revision (new proposed action) | 1 | 80 | 80 | 213 | 17,040.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14595 (71 FR 28254, May 16, 2006) and amendment 39-14690 (71 FR 42021, July 25, 2006) and adding the following new airworthiness directive (AD):

Airbus: Docket No. FAA-2008-0018; Directorate Identifier 2007-NM-145-AD.

Comments Due Date

(a) The FAA must receive comments on this AD action by February 13, 2008.

Affected ADs

(b) This AD supersedes AD 2006-10-11 and AD 2006-15-10.

Applicability

(c) This AD applies to all Airbus Model A310 series airplanes and A300-600 series airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (r) of this AD. The request should include a description of changes to the required inspections that will ensure the continued operational safety of the airplane. The FAA has provided guidance for this determination in Advisory Circular (AC) 25-1529-1.

Unsafe Condition

(d) This AD results from the manufacturer's determination that life limitations and maintenance tasks are necessary in order to ensure continued operational safety of the affected airplanes. We are issuing this AD to prevent reduced structural integrity of these airplanes due to the failure of system components.

Compliance

(e) You are responsible for having the actions required by this AD performed within the compliance times specified, unless the actions have already been done.

Restatement of Requirements of AD 2006-10-11

Inspection and Corrective Action

(f) For Airbus Model A310-203, -204, -221, -222, -304, -322, -324, and -325 airplanes, except for airplanes on which Airbus Modification 12247 has been embodied in production: At the earlier of the compliance times specified in paragraph (f)(1) or (f)(2) of this AD, perform a detailed inspection for stress corrosion cracking of the flight transmission shafts located between the power control unit (PCU) and the torque limiters in accordance with the Accomplishment Instructions of Airbus Service Bulletin A310-27-2092, Revision 02, dated April 11, 2005. Thereafter, repeat the inspections as required by paragraph (g) of this AD. Before further flight, replace any cracked transmission shaft discovered during any inspection required by this AD with a new or reconditioned shaft, in accordance with the Accomplishment Instructions of Airbus Service Bulletin A310-27-2095, dated March 29, 2000. Doing an inspection in accordance with paragraph (o) or (p) of this AD terminates the requirements of this paragraph.

(1) Within 2,000 flight hours after the last flap asymmetry protection test performed in accordance with Airbus A310 Maintenance Planning Document (MPD) Task 275600-01-1.

(2) Within 8,000 flight cycles after the last flap asymmetry protection test performed in accordance with Airbus A310 MPD Task 275600-02-1 or 800 flight cycles after June 20, 2006 (the effective date of AD 2006-10-11), whichever comes later.

Note 2: Airbus Service Bulletin A310-27-2092, Revision 02, dated April 11, 2005, refers to Lucas Liebherr Service Bulletin 551A-27-624, Revision 1, dated August 18, 2000, as an additional source of service information for accomplishing the inspections.

Note 3: Airbus Service Bulletin A310-27-2092, Revision 02, refers to Airbus Service Bulletin A310-27-2095, dated March 29, 2000, as a source of service information for replacing the flap transmission shafts.

Note 4: Airbus Service Bulletin A310-27-2095 refers to Lucas Liebherr Service Bulletin 551A-27-M551-05, dated January 12, 2000, as an additional source of service information for replacing the flap transmission shafts.

Repetitive Inspections

(g) Repeat the inspection required by paragraph (f) of this AD at the applicable times specified in paragraphs (g)(1), (g)(2), and (g)(3) of this AD. Doing an inspection in accordance with paragraph (o) or (p) of this AD terminates the requirements of this paragraph.

(1) Before further flight after any occurrence of jamming of the flap transmission system.

(2) At intervals not to exceed 2,000 flight hours after each flap asymmetry protection test performed in accordance with Airbus A310 MPD Task 275600-01-1.

(3) At intervals not to exceed 8,000 flight cycles after each flap asymmetry protection test performed in accordance with Airbus A310 MPD Task 275600-02-1.

Optional Terminating Action

(h) Replacing any flap transmission shaft with a new or reconditioned transmission shaft in accordance with the Accomplishment Instructions of Airbus Service Bulletin A310-27-2095, dated March 29, 2000, ends the inspections required by paragraphs (f) and (g) of this AD for that transmission shaft only.

Actions Performed Using Previously Issued Service Information

(i) Actions performed in accordance with Airbus Service Bulletin A310-27-2092, dated April 9, 1999; or Revision 01, dated December 11, 2001; are considered acceptable for compliance with the corresponding requirements of paragraphs (f) and (g) of this AD.

No Reporting

(j) Although Airbus Service Bulletin A310-27-2092, Revision 02, dated April 11, 2005, specifies to submit certain information to the manufacturer, this AD does not include that requirement.

Restatement of Requirements of AD 2006-15-10

Service Bulletin References

(k) Unless otherwise specified in this AD, the term “service bulletin,” as used in paragraphs (l), (m), and (n) of this AD, means the applicable required service bulletin identified in Table 1 of this AD. The service bulletins refer to Goodrich Actuation Systems Service Bulletin 47142-27-11, Revision 3, dated April 25, 2005, as an additional source of service information for the required actions.

Table 1.—Service Bulletins
Required Airbus Service Bulletin | Approved Airbus Service Bulletin version for actions done before the effective date of this AD | Airbus airplane model
A300-27-6044, Revision 04, dated September 10, 2001 | A300-27-6044, Revision 02, dated August 26, 2000; or Revision 03, dated June 28, 2001 | A300 B4-601, B4-603, B4-620, and B4-622. A300 B4-605R and B4-622R. A300 F4-605R and F4-622R. A300 C4-605R Variant F.
A310-27-2089, Revision 02, dated June 28, 2001 | A310-27-2089, Revision 01, dated August 25, 2000 | A310-203, -204, -221, and -222. A310-304, -322, -324, and -325.

Inspection

(l) At the applicable time specified in paragraph (l)(1) or (l)(2) of this AD, do a detailed inspection of specified components of the THSA in accordance with paragraph 1.E.(2)(a) and the Accomplishment Instructions of the applicable service bulletin. Repair any discrepancy before further flight in accordance with a method approved by the Manager, International Branch, ANM-116, Transport Airplane Directorate, FAA; or the European Aviation Safety Agency (EASA) (or its delegated agent). TRW Aeronautical Systems/Lucas Aerospace Component Maintenance Manual 27-44-13, dated September 14, 2001, is one acceptable method for the repair. Doing an inspection in accordance with paragraph (o) or (p) of this AD terminates the requirements of this paragraph.

(1) If the flight hours accumulated on the THSA can be positively determined: Inspect at the earlier of:

(i) Before the accumulation of 47,000 total flight hours on the THSA, or within 600 flight hours after August 29, 2006 (the effective date of AD 2006-15-10), whichever occurs later.

(ii) Within 25 years since the THSA was new or within 600 flight hours after August 29, 2006, whichever occurs later.

(2) If the flight hours accumulated on the THSA cannot be positively determined: Inspect before the accumulation of 47,000 total flight hours on the airplane, or within 600 flight hours after August 29, 2006, whichever occurs later.

Note 5: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Follow-on Repetitive Tasks

(m) After the inspection required by paragraph (l) of this AD: Do the repetitive tasks in accordance with the Accomplishment Instructions and at the times specified in paragraph 1.E.(2)(b) of the service bulletin, as applicable, except as provided by paragraph (n) of this AD. The repetitive tasks are valid only until the THSA operational life exceeds 65,000 flight hours, 40,000 flight cycles, or 25 years, whichever occurs first. Before the THSA is operated beyond these extended life goals, it must be replaced with a new THSA, except as required by paragraph (n) of this AD. Doing an inspection in accordance with paragraph (o) or (p) of this AD terminates the requirements of this paragraph.

THSA Replacement

(n) For any THSA, whether discrepant or not, that is replaced with a new THSA: Within 47,000 flight hours or 25 years, whichever occurs first, after the THSA is replaced, do the applicable tasks specified in paragraph 1.E.(2)(a) and the Accomplishment Instructions of the applicable service bulletin. Thereafter repeat the tasks within the repetitive intervals specified in paragraph 1.E.(2)(b) of the applicable service bulletin. Doing the corresponding tasks in accordance with paragraph (o) or (p) of this AD terminates the requirements of this paragraph.

New Requirements of This AD

Revise Airworthiness Limitations Section (ALS) to Incorporate Limitations and Maintenance Tasks for Aging Systems Maintenance

(o) Within 3 months after the effective date of this AD, revise the Airworthiness Limitations Section (ALS) of the Instructions for Continued Airworthiness to incorporate Airbus A310 ALS Part 4—Aging Systems Maintenance, Revision 01, dated December 21, 2006; and A300-600 ALS Part 4—Aging Systems Maintenance, Revision 01, dated December 21, 2006; as applicable. For all tasks identified in Airbus A310 ALS Part 4—Aging Systems Maintenance, Revision 01; and A300-600 ALS Part 4—Aging Systems Maintenance, Revision 01; the initial compliance times start from the effective date of this AD, except as provided by paragraph (p) of this AD. The repetitive inspections must be accomplished thereafter at the interval specified in Airbus A310 ALS Part 4—Aging Systems Maintenance, Revision 01; and A300-600 ALS Part 4—Aging Systems Maintenance, Revision 01.

(p) For airplanes on which any life limitation/maintenance task has been complied with in accordance with the requirements of AD 2006-10-11 or AD 2006-15-10, the last accomplishment of each limitation/task must be retained as a starting point for the accomplishment of each corresponding limitation/task interval now introduced in Airbus A310 ALS Part 4—Aging Systems Maintenance, Revision 01, dated December 21, 2006; and A300-600 ALS Part 4—Aging Systems Maintenance, Revision 01, dated December 21, 2006; as applicable.

(q) Except as provided by paragraph (r) of this AD: After accomplishing the actions specified in paragraphs (o) and (p) of this AD, no alternative inspection, inspection intervals, or limitations may be used.

Alternative Methods of Compliance (AMOCs)

(r)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2006-10-11 are not approved as AMOCs with this AD.

(4) AMOCs approved previously in accordance with AD 2006-15-10 are not approved as AMOCs with this AD.

Related Information

(s) EASA airworthiness directive 2007-0092, dated April 10, 2007, also addresses the subject of this AD.

Issued in Renton, Washington, on January 3, 2008.
Ali Bahrami,
Manager, Transport Airplane Directorate, Aircraft Certification Service.

[FR Doc. E8-380 Filed 1-11-08; 8:45 am]

BILLING CODE 4910-13-P